ENVIRONMENTAL PROTECTION AGENCY

[ER-FRL-8584-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080197, ERP No. D-BLM-K60041-NV, Lincoln County Land Act (LCLA) Groundwater Development and Utility Right-of-Way Project, Implementation, To Grant a Right-of-Way Permit for Groundwater Development and Utility Facilities, Lincoln County, NV.

Summary: EPA expressed environmental concerns about the long-term availability of the water supply, conservation and water use efficiency, and indirect and cumulative impacts, and recommended continued collaboration through a regional groundwater framework to ensure efficient long-term sustainable use of the deep carbonate-rock aquifer, and evaluation and commitment to specific climate change adaptation measures and back-up water supplies. Rating EC2.

EIS No. 20080200, ERP No. D-AFS-J65515-UT, Dixie National Forest Motorized Travel Plan, Implementation, Dixie National and the Teasdale portion of the Fremont River Ranger District on the Fishlake National Forest, Garfield, Iron, Kane, Piute, Washington and Wayne Counties, UT.

Summary: EPA does not object to the proposed action. Rating LO.

EIS No. 20080209, ERP No. D-AFS-J65516-WY, Inyan Kara Analysis Area Vegetation Management, Proposes to Implement Best Management Livestock Grazing Practices and Activities Associated with Adaptive Management and Monitoring Strategies, Douglas Ranger District, Medicine Bow Routt National Forest and Thunder Basin National Grassland, Niobrara and Weston Counties, WY.

Summary: EPA expressed environmental concerns about potential water quality impacts to riparian/stream systems due to past grazing activities. EPA supports adaptive management practices proposed by the Forest Service for improve existing resource conditions impacted by grazing and long-term drought. EPA requested that the final EIS include a drought management plan and baseline data for monitoring and protecting water quality. Rating EC2.

EIS No. 20080219, ERP No. D-NOA-E39073-00, Programmatic—Coral Restoration in the Florida Keys and Flower Garden Banks National Marine Sanctuaries, Implementation, FL, TX, and LA.

Summary: EPA does not object to the proposed action, but requested additional data to clarify timeframes of coral growth and the level of effort to conduct the restoration projects. Rating LO.

Dated: July 29, 2008.
Robert W. Hargrove,
Director, NEPA Compliance Division, Office of Federal Activities.

[FR Doc. E8-17718 Filed 7-31-08; 8:45 am]

BILLING CODE 6560-50-P